FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 17754N.

Name: Adcom Express, Inc. dba Adcom Worldwide.

Address: 7424 W. 78th Street, Edina, MN 55439.

Date Revoked: December 15, 2002.

Reason: Failed to maintain a valid bond.

License Number: 13465F.

Name: AMT Freight, Inc.

Address: 2500 Logistics Drive, Battle Creek, MI 49015.

Date Revoked: November 21, 2002.

Reason: Failed to maintain a valid bond.

License Number: 15453NF.

Name: B & H Overseas Shipping & Moving L.L.C.

Address: 695 Windsor Street, Hartford, CT 06120.

Date Revoked: December 15, 2002.

Reason: Failed to maintain valid bonds.

License Number: 17663N.

Name: Data Cargo Co., Inc.

Address: 8757 NW 35th Street, Miami, FL 33172.

Date Revoked: December 8, 2002.

Reason: Failed to maintain a valid bond.

License Number: 16525F.

Name: J-Lec Corp.

Address: 5405 NW 102nd Avenue, Suite 223, Sunrise, FL 33351.

Date Revoked: November 24, 2002.

Reason: Failed to maintain a valid bond.

License Number: 17558N.

Name: JTK International Trading, Inc. dba Coastline Trans.

Address: 3200 Wilshire Blvd., Suite 1750 So. Tower, Los Angeles, CA 90010.

Date Revoked: December 18, 2002.

Reason: Failed to maintain a valid bond.

License Number: 13106N

Name: Knopf International, Inc.

Address: 2397 So. Dove Street, Alexandria, VA 22314.

Date Revoked: December 12, 2002.

Reason: Failed to maintain a valid bond.

License Number: 527F.

Name: Moran Shipping Agencies Inc. dba Patterson Wylde & Co.

Address: 1110 Wellington Avenue, Cranston, RI 02910.

Date Revoked: December 8, 2002.

Reason: Failed to maintain a valid bond.

License Number: 11326N.

Name: Multimodal Service (NY) Inc.

Address: Cross Island Plaza, Suite 207, 133-33 Brookville Blvd., Rosedale, NY 11422.

Date Revoked: December 12, 2002.

Reason: Failed to maintain a valid bond.

License Number: 4592F.

Name: Natasha International Freight, Inc.

Address: 12912 SW 133 Court, Suite A, Miami, FL 33186.

Date Revoked: November 30, 2002.

Reason: Failed to maintain a valid bond.

License Number: 17240N.

Name: O.K. Shipping, Inc.

Address: 17936 E. Ajax Circle, City of Industry, CA 91748.

Date Revoked: December 5, 2002.

Reason: Failed to maintain a valid bond.

License Number: 4262NF.

Name: Omni Express International, Inc.

Address: 10501 South La Cienega Blvd., Los Angeles, CA 90045.

Date Revoked: December 15, 2002.

Reason: Failed to maintain valid bonds.

License Number: 4485F.

Name: Prem International, Inc.

Address: 8412 NW 70th Street, Miami, FL 33166.

Date Revoked: December 6, 2002.

Reason: Failed to maintain a valid bond.

License Number: 16996F.

Name: UC Bridge Inc.

Address: 210 West Walnut Street, Suite #A, Compton, CA 90220.

Date Revoked: November 24, 2002.

Reason: Failed to maintain a valid bond.

License Number: 16971N.

Name: Wil Can (USA) Group Inc.

Address: 167-10 So. Conduit Avenue, Suite 210, Jamaica, NY 11434.

Date Revoked: November 30, 2002.

Reason: Failed to maintain a valid bond.

License Number: 4134F.

Name: World Exchange, Inc.

Address: 8840 Bellanca Avenue, Los Angeles, CA 90045.

Date Revoked: November 2, 2002.

Reason: Failed to maintain a valid bond.

License Number: 2674F.

Name: World Express Cargo, Inc.

Address: 12613 Executive Drive, Suite 700, Stafford, TX 77477.

Date Revoked: December 8, 2002.

Reason: Failed to maintain a valid bond.

Sandra L. Kusumoto,
Director, Bureau of Consumer Complaints and Licensing.

[FR Doc. 03-874 Filed 1-14-03; 8:45 am]

BILLING CODE 6730-01-P